DEPARTMENT OF AGRICULTURE

Natural Resources Conservation Service

Notice of Availability of the Record of Decision (ROD) for the Gulf Coast Pipeline Project

AGENCY: Natural Resources Conservation Service, USDA.

ACTION: Notice of Availability of Record of Decision.

SUMMARY: This notice represents the Record of Decision (ROD) regarding the Natural Resources Conservation Service's (NRCS's) decision to subordinate its rights, acquired under the Wetland Reserve Program, to allow the Gulf Coast Segment (Gulf Coast Pipeline Project) of the TransCanada Keystone Pipeline, LP to cross one NRCS held conservation easement in Fannin County, Texas associated with this approximately 480 mile pipeline from Cushing, Oklahoma, to Nederland, Texas. This is in accordance with agency policy CPM-440, Part 514, Circular 7, Infrastructure Policy on Easements, dated September 6, 2007.

ADDRESSES: Copies of the ROD are available upon request from the Natural Resource Conservation Service, 101 South Main, Temple, Texas 76502.

FOR FURTHER INFORMATION CONTACT: Claude W. Ross, Natural Resources Specialist, Natural Resources Conservation Service, 101 South Main, Temple, TX 76501; Phone: 254-742-9822.

SUPPLEMENTARY INFORMATION: In September 2008, TransCanada Keystone Pipeline, LP (TransCanada) filed an application for a Presidential Permit with the U.S. Department of State (DOS) to build and operate the Keystone XL Project.

In the original application, TransCanada had proposed that the project would consist of 1,375 miles of new 36-inch diameter pipeline, to be built in three segments: The approximately 850-mile long “Steele City” segment from the U.S. border to Steele City, Nebraska; the approximately 478-mile long “Gulf Coast” segment from Cushing, Oklahoma to Nederland, Texas; and the 47-mile long “Houston Lateral” segment from Liberty County, Texas, to the Moore Junction area in Harris County, Texas.

On February 27, 2012, TransCanada submitted a letter to the Department of State giving advanced notice of the intent to move forward with the Gulf Coast Segment (Gulf Coast Pipeline Project). The Final Environmental Impact Statement (FEIS) included analysis of the Gulf Coast Pipeline Project.

The ROD noticed herein pertains only to the Gulf Coast Pipeline Project and to NRCS's decision to subordinate its rights, acquired under the Wetlands Reserve Program, thereby allowing the pipeline to cross a conservation easement in Fannin County, Texas.

Dated: October 29, 2012.
Salvador Salinas,
State Conservationist.

[FR Doc. 2012-26979 Filed 11-5-12; 8:45 am]

BILLING CODE 3410-16-P